DEPARTMENT OF THE INTERIOR

Bureau of Land Management

[LLWY-957400-14-L13100000-PP0000]

Filing of Plats of Survey, Wyoming

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys and supplementals were executed at the request of the Bureau of Land Management, and are necessary for the management of resources. The lands surveyed are:

The plat and field notes representing the dependent resurvey of portions of the east boundary and subdivisional lines, and the survey of the subdivision of section 12, Township 18 North, Range 102 West, Sixth Principal Meridian, Wyoming, Group No. 841, was accepted August 7, 2013.

The plat and field notes representing the retracement and dependent resurvey of a portion of the east boundary, portions of the subdivisional lines and certain mineral surveys, and the survey of the subdivision of section 13, Township 29 North, Ranges 99 and 100 West, Sixth Principal Meridian, Wyoming, Group No. 845, was accepted August 7, 2013.

The plat and field notes representing the dependent resurvey of a portion of the east boundary and subdivisional lines, and the survey of the subdivision of sections 13, 14 and 23, Township 26 North, Range 80 West, Sixth Principal Meridian, Wyoming, Group No. 859, was accepted August 7, 2013.

The supplemental plat showing amended lottings is based upon the dependent resurvey plat accepted June 18, 1982, and supplemental plat accepted June 22, 1988, Township 36 North, Range 75 West, Sixth Principal Meridian, Group No. 890, was accepted August 7, 2013.

The plat and field notes representing the dependent resurvey of a portion of the Fourth Standard Parallel North, through Range 87 West, a portion of the west boundary and a portion of the subdivisional lines, and the survey of the subdivision of sections 5, 7 and 18, Township 16 North, Range 87 West, Sixth Principal Meridian, Wyoming, Group No. 855, was accepted November 22, 2013.

The plat and field notes representing the dependent resurvey of a portion of the south boundary and a portion of the subdivisional lines and the survey of the subdivision of section 34, Township 44 North, Range 82 West, Sixth Principal Meridian, Wyoming, Group No. 862, was accepted November 22, 2013.

The supplemental plat, showing amended lottings, is based upon the resurvey plat approved May 29, 1912, Township 24 North, Range 111 West, Sixth Principal Meridian, Wyoming, Group No. 897, was accepted November 22, 2013.

The plat and field notes representing the dependent resurvey of a portion of the west boundary and portions of the subdivisional lines, the survey of the subdivision of certain sections, and the survey of portions of the Fortification Creek Wilderness Study Area boundary, Township 52 North, Range 75 West, Sixth Principal Meridian, Wyoming, Group No. 864, was accepted December 18, 2013.

The plat and field notes representing the dependent resurvey of a portion of the east boundary and subdivisional lines, and the survey of the subdivision of section 24, Township 30 North, Range 103 West, Sixth Principal Meridian, Wyoming, Group No. 869, was accepted December 18, 2013.

Copies of the preceding described plats and field notes are available to the public at a cost of $1.10 per page.

Dated: January 22, 2014.
John P. Lee,
Chief Cadastral Surveyor, Division of Support Services.

[FR Doc. 2014-01531 Filed 1-27-14; 8:45 am]

BILLING CODE 4310-22-P